DEPARTMENT OF THE INTERIOR

Bureau of Land Management

[WY-920-1430-ET; WYW 101899]

Notice of Proposed Withdrawal Extension and Opportunity for Public Meeting; WY

AGENCY: Bureau of Land Management, Interior.

ACTION: Notice.

SUMMARY: The Bureau of Land Management (BLM) proposes to extend the duration of Public Land Order (PLO) No. 6693 for an additional 20-year term. PLO No. 6693 withdrew 357.34 acres of public lands from settlement, sale, location, and entry under the general land laws, including the mining laws, to protect the Natural Corrals Archeological Site in Sweetwater County. This notice also gives an opportunity to comment on the proposed action and to request a public meeting.

DATES: Comments and requests for a public meeting must be received by July 3, 2008.

ADDRESSES: Comments and meeting requests should be sent to the BLM Wyoming State Director, P.O. Box 1828, Cheyenne, Wyoming 82003-1828.

FOR FURTHER INFORMATION CONTACT: Janet Booth, BLM Wyoming State Office, 307-775-6124, or at the above address.

SUPPLEMENTARY INFORMATION: The withdrawal created by PLO No. 6693 (53 FR 49664 (1988)) will expire on December 8, 2008, unless extended. The BLM has filed an application to extend PLO No. 6693 for an additional 20-year term. The withdrawal was made to protect important archeological, historical, geological, and recreational values of the Natural Corrals Archeological Site, on public lands described as follows:

Sixth Principal Meridian

T. 21 N., R. 101 W.

Sec. 18, lots 1, 2, and 3, W½ NE¼, E½NW¼, NE¼SW¼, and NW¼SE¼.

The areas described aggregate 357.34 acres in Sweetwater County.

The purpose of the proposed extension is to continue the withdrawal created by PLO No. 6693 for an additional 20-year term to protect the archeological, historical, geological, and recreational values of the Natural Corrals Archeological Site.

The use of a right-of-way, interagency, or cooperative agreement would not adequately constrain nondiscretionary uses which could result in permanent loss of significant values and irreplaceable resources at the site.

There are no suitable alternative sites since the lands described herein contain the resource values that need protection.

No water rights would be needed to fulfill the purpose of the requested withdrawal extension.

Records relating to the application may be examined by contacting Janet Booth at the above address or 307-775-6124.

For a period of 90 days from the date of publication of this notice, all persons who wish to submit comments, suggestions, or objections in connection with the proposed extension may present their views in writing to the BLM Wyoming State Director at the address noted above.

Comments, including names and street addresses of respondents, will be available for public review at the BLM Rock Springs Field Office, 280 Highway 191 North, Rock Springs, Wyoming, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed extension must submit a written request to the BLM Wyoming State Director within 90 days from the date of publication of this notice. If the authorized officer determines that a public meeting will be held, a notice of the time and place will be published in the Federal Register at least 30 days before the scheduled date of the meeting.

This withdrawal extension proposal will be processed in accordance with the regulations set forth in 43 CFR 2310.4.

Authority: 43 CFR 2310.3-1.

Date: March 27, 2008.
Michael Madrid,
Chief, Branch of Fluid Mineral Operations, Lands and Appraisal.

[FR Doc. E8-7050 Filed 4-3-08; 8:45 am]

BILLING CODE 4310-22-P